DEPARTMENT OF ENERGY

Federal Energy Regulatory Commission

[Docket No. CP09-444-000]

Tennessee Gas Pipeline Company; Notice of Availability of the Environmental Assessment for the Proposed 300 Line Project

February 25, 2010.

The staff of the Federal Energy Regulatory Commission (Commission or FERC) has prepared an environmental assessment (EA) for the 300 Line Project proposed by Tennessee Gas Pipeline Company (TGP) in the above referenced docket. TGP requests authorization to expand its natural gas pipeline system in Pennsylvania and New Jersey in order to increase the natural gas delivery capacity to the northeast region of the United States by approximately 350,000 dekatherms per day and improve the reliability of it's existing 300 Line system.

The EA assesses the potential environmental effects of the construction and operation of the 300 Line Project in accordance with the requirements of the National Environmental Policy Act of 1969 (NEPA). The FERC staff concludes that approval of the proposed project, with appropriate mitigating measures, would not constitute a major Federal action significantly affecting the quality of the human environment.

The U.S. Bureau of Land Management, the U.S. Fish and Wildlife Service, and the U.S. Army Corps of Engineers participated as cooperating agencies in the preparation of this EA. Cooperating agencies have jurisdiction by law or special expertise with respect to resources potentially affected by TGP's proposal and participate in the NEPA analysis. These cooperating agencies will adopt and use the EA to consider the issuance of right-of-way grants on federally administered lands.

The proposed 300 Line Project includes the following facilities:

• Installation of approximately 127.4 miles of new 30-inch-diameter pipeline loop ¹ in seven separate segments in Potter, Tioga, Bradford, Susquehanna, Wayne, and Pike Counties, Pennsylvania; and Sussex and Passaic Counties, New Jersey;

¹ A loop is a segment of pipe that is usually installed adjacent to an existing pipeline and connected to it at both ends. The loop allows more gas to be moved through the system.

• Construction of new compressor stations in Venango and McKean Counties, Pennsylvania;

• Modifications to seven existing compressor stations in Potter, Tioga, Bradford, Susquehanna, and Pike Counties, Pennsylvania, and Sussex County, New Jersey;

• Installation of associated appurtenant aboveground facilities including mainline valves and pig ² launchers/receivers; and

² A pig is an internal tool that can be used to clean and dry a pipeline and/or to inspect it for damage or corrosion.

• Contractor/pipe yards and access roads.

The EA has been placed in the public files of the FERC and is available for public viewing on the FERC's Web site at http://www.ferc.gov using the eLibrary link. A limited number of copies of the EA are available for distribution and public inspection at: Federal Regulatory Energy Commission, Public Reference Room, 888 First Street, NE., Room 2A, Washington, DC 20426, (202) 502-8371.

Copies of the EA have been mailed to Federal, State, and local government representatives and agencies; elected officials; environmental and public interest groups; Native American tribes; local libraries and newspapers in the project area; intervenors to the FERC's proceeding; and affected landowners, potentially affected landowners, and other interested individuals and groups.

Any person wishing to comment on the EA may do so. Your comments should focus on the potential environmental effects, reasonable alternatives, and measures to avoid or lessen environmental impacts. The more specific your comments, the more useful they will be. The Notice of Schedule for Environmental Review issued on December 8, 2009, indicated that the EA would be issued on February 19, 2010 and the 90-day Federal authorization decision deadline was May 20, 2010. Due to the unprecedented weather circumstances and subsequent closing of Federal government offices in Washington, DC, during the week of February 8, 2010, issuance of the EA was delayed from February 19, 2010, until February 25, 2010. Therefore, the 90-day Federal authorization decision deadline is extended until May 26, 2010. To ensure that your comments are properly recorded and considered prior to a Commission decision on the proposal, it is important that FERC receives your comments in Washington, DC on or before March 29, 2010.

For your convenience, there are three methods which you can use to submit your comments to the Commission. In all instances please reference the project docket number (CP09-444-000) with your submission. The Commission encourages electronic filing of comments and has dedicated eFiling expert staff available to assist you at (202) 502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Although your comments will be considered by the Commission, simply filing comments will not serve to make the commentor a party to the proceeding. Any person seeking to become a party to the proceeding must file a motion to intervene pursuant to Rule 214 of the Commission's Rules of Practice and Procedures (18 CFR 385.214).³ Only intervenors have the right to seek rehearing of the Commission's decision.

³ Interventions may also be filed electronically via the Internet in lieu of paper. See the previous discussion of filing comments electronically.

Affected landowners and parties with environmental concerns may be granted intervenor status upon showing good cause by stating that they have a clear and direct interest in this proceeding which would not be adequately represented by any other parties. You do not need intervenor status to have your comments considered.

Additional information about the project is available from the Commission's Office of External Affairs at (866) 208-FERC or on the FERC Web site (http://www.ferc.gov) using the eLibrary link. Click on the eLibrary link, then on “General Search” and enter the docket number excluding the last three digits in the Docket Number field (i.e., CP09-444). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notifications of these filings, document summaries and direct links to the documents. Go to http://www.ferc.gov/esubscribenow.htm.

Kimberly D. Bose,
Secretary.

[FR Doc. 2010-4615 Filed 3-4-10; 8:45 am]

BILLING CODE 6717-01-P